DEPARTMENT OF DEFENSE

48 CFR Parts 247 and 252

[DFARS Case 2003-D028]

Defense Federal Acquisition Regulation Supplement; Transportation

AGENCY: Department of Defense (DoD).

ACTION: Proposed rule with request for comments.

SUMMARY: DoD is proposing to amend the Defense Federal Acquisition Regulation Supplement (DFARS) to update text on transportation matters relating to DoD contracts. This proposed rule is a result of a transformation initiative undertaken by DoD to dramatically change the purpose and content of the DFARS.

DATES: Comments on the proposed rule should be submitted in writing to the address shown below on or before September 26, 2005, to be considered in the formation of the final rule.

ADDRESSES: You may submit comments, identified by DFARS Case 2003-D028, using any of the following methods:

○ Federal eRulemaking Portal: http://www.regulations.gov. Follow the instructions for submitting comments.

○ Defense Acquisition Regulations Web Site: http://emissary.acq.osd.mil/dar/dfars.nsf/pubcomm. Follow the instructions for submitting comments.

○ E-mail: dfars@osd.mil. Include DFARS Case 2003-D028 in the subject line of the message.

○ Fax: (703) 602-0350.

○ Mail: Defense Acquisition Regulations Council, Attn: Ms. Deborah Tronic, OUSD (AT&L) DPAP (DAR), IMD 3C132, 3062 Defense Pentagon, Washington, DC 20301-3062.

○ Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Ms. Deborah Tronic, (703) 602-0289.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dfars/transf.htm.

This proposed rule is a result of the DFARS Transformation initiative. The proposed DFARS changes—

○ Delete text on transportation matters that are sufficiently addressed in the Federal Acquisition Regulation or in DoD transportation regulations;

○ Clarify requirements for inclusion of shipping instructions in solicitations and contracts; and

○ Delete procedures for contracting for the preparation of property for shipment or storage; and for preparation of consignment instructions. Text on these subjects will be relocated to the new DFARS companion resource, Procedures, Guidance, and Information (PGI). Additional information on PGI is available at http://www.acq.osd.mil/dpap/dars/pgi.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule deletes unnecessary or procedural text on contract transportation matters, but makes no significant change to DoD contracting policy. Therefore, DoD has not performed an initial regulatory flexibility analysis. DoD invites comments from small businesses and other interested parties. DoD also will consider comments from small entities concerning the affected DFARS subparts in accordance with 5 U.S.C. 610. Such comments should be submitted separately and should cite DFARS Case 2003-D028.

C. Paperwork Reduction Act

The Paperwork Reduction Act does not apply because the rule does not impose any information collection requirements that require the approval of the Office of Management and Budget under 44 U.S.C. 3501, et seq.

List of Subjects in 48 CFR Parts 247 and 252

Government procurement.

Michele P. Peterson,
Editor, Defense Acquisition Regulations System.

Therefore, DoD proposes to amend 48 CFR parts 247 and 252 as follows:

1. The authority citation for 48 CFR parts 247 and 252 continues to read as follows:

Authority: 41 U.S.C. 421 and 48 CFR chapter 1.

PART 247—TRANSPORTATION

Subpart 247.1 [Removed]

2. Subpart 247.1 is removed.

3. Section 247.206 is amended by revising paragraph (1) to read as follows:

247.206 Preparation of solicitations and contracts.

(1) Consistent with FAR 15.304 and 215.304, consider using the following as evaluation factors or subfactors:

(i) Record of claims involving loss or damage; and

(ii) Commitment of transportation assets to readiness support (e.g., Civil Reserve Air Fleet and Voluntary Intermodal Sealift Agreement).

* * * * *

247.270-1 [Removed]

4. Section 247.270-1 is removed.

247.270-2 [Redesignated]

5. Section 247.270-2 is redesignated as section 247.270-1.

247.270-3 [Removed]

6. Section 247.270-3 is removed.

247.270-4 [Redesignated]

7. Section 247.270-4 is redesignated as section 247.270-2.

247.270-5 [Removed]

8. Section 247.270-5 is removed.

247.270-6 [Redesignated]

9. Section 247.270-6 is redesignated as section 247.270-3.

247.271-1 and 247.271-2 [Removed]

10. Sections 247.271-1 and 247.271-2 are removed.

247.271-3 and 247.271-4 [Redesignated]

11. Sections 247.271-3 and 247.271-4 are redesignated as sections 247.271-1 and 247.271-2, respectively.

12. Newly designated section 247.271-1 is revised to read as follows:

247.271-1 Procedures.

Follow the procedures at PGI 247.271-1 for contracting for the preparation of personal property for shipment or storage.

13. Newly designated section 247.271-2 is amended by revising paragraph (c) to read as follows:

247.271-2 Solicitation provisions, schedule formats, and contract clauses.

* * * * *

(c) In solicitations and resulting contracts, the schedules provided by the installation personal property shipping office. Follow the procedures at PGI 247.271-2 for use of schedules.

* * * * *

14. Sections 247.305-10 and 247.305-70 are revised to read as follows:

247.305-10 Packing, marking, and consignment instructions.

Follow the procedures at PGI 247.305-10 for preparation of consignment instructions.

247.305-70 Returnable containers other than cylinders.

Use the clause at 252.247-7021, Returnable Containers Other Than Cylinders, in solicitations and contracts for supplies involving contractor-furnished returnable reels, spools, or other returnable containers if the contractor is to retain title to the containers.

247.370 [Removed]

15. Section 247.370 is removed.

247.371 and 247.372 [Redesignated]

16. Sections 247.371 and 247.372 are redesignated as sections 247.370 and 247.371, respectively.

17. Newly designated sections 247.370 and 247.371 are revised to read as follows:

247.370 DD Form 1384, Transportation Control and Movement Document.

The transportation office of the shipping activity prepares the DD Form 1384 to accompany all shipments made through a military air or water port, in accordance with DoD 4500.9-R, Defense Transportation Regulation, Part II, Chapter 203.

247.371 DD Form 1653, Transportation Data for Solicitations.

The transportation specialist prepares the DD Form 1653 to accompany requirements for the acquisition of supplies. The completed form should contain recommendations for suitable f.o.b. terms and other suggested transportation provisions for inclusion in the solicitation.

247.373 [Redesignated]

18. Section 247.373 is redesignated as section 247.372.

19. Section 247.572-1 is amended by revising paragraph (b) to read as follows:

247.572-1 Ocean transportation incidental to a contract for supplies, services, or construction.

* * * * *

(b) DD Form 1653, Transportation Data for Solicitations, shall be used—

(1) By the requesting activity in developing the Government estimate for transportation costs; and

(2) By the contracting officer in ensuring that valid shipping instructions and delivery terms are included in solicitations and contracts that may involve transportation of supplies by sea.

* * * * *

PART 252—SOLICITATION PROVISIONS AND CONTRACT CLAUSES

252.247-7000 through 252.247-7002 and 252.247-7004 through 252.247-7007 [Amended]

20. Sections 252.247-7000 through 252.247-7002 and 252.247-7004 through 252.247-7007 are amended in the introductory text by removing “247.270-6” and adding in its place “247.270-3”.

252.247-7008 [Amended]

21. Section 252.247-7008 is amended in the introductory text and in Alternate I introductory text by removing “247.271-4” and adding in its place “247.271-2”.

252.247-7009 through 252.247-7012 [Amended]

22. Sections 252.247-7009 through 252.247-7012 are amended in the introductory text by removing “247.271-4” and adding in its place “247.271-2”.

252.247-7013 [Amended]

23. Section 252.247-7013 is amended in the introductory text as follows:

a. By removing “247.271-4” and adding in its place “247.271-2”; and

b. By removing the parenthetical “(see 247.271-2(b))”.

252.247-7014 and 252.247-7016 through 252.247-7020 [Amended]

24. Sections 252.247-7014 and 252.247-7016 through 252.247-7020 are amended in the introductory text by removing “247.271-4” and adding in its place “247.271-2”.

[FR Doc. 05-14626 Filed 7-25-05; 8:45 am]

BILLING CODE 5001-08-P